DEPARTMENT OF COMMERCE

National Oceanic and Atmospheric Administration

RIN: 0648-XC19

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 9-14, 2007. The Council meeting will begin on Monday, September 10, at 2 p.m., reconvening each day through Friday, September 14. All meetings are open to the public, except a closed session will be held from 2 p.m. until 3 p.m. on Monday, September 10 to address litigation and personnel matters. The Council will meet as late as necessary each day to complete its scheduled business.

ADDRESSES: The meetings will be held at the Doubletree Hotel Portland Lloyd Center, 1000 NE Multnomah Street, Portland, OR 97232; telephone: (503) 281-6111.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Swearing in of New Member

3. Roll Call

4. Executive Director's Report

5. Approve Agenda

B. Administrative Matters

1. Future Council Meeting Agenda Planning

2. West Coast Governors' Agreement on Ocean Health

3. Magnuson-Stevens Act Reauthorization Implementation

4. Legislative Matters

5. Fiscal Matters

6. Appointments to Advisory Bodies, Standing Committees, and Other Forums, and Changes to Council Operating Procedures as Needed

7. Approval of Council Meeting Minutes

8. Council Three-Meeting Outlook, November 2007 Council Meeting Agenda, and Workload Priorities

C. Open Public Comment

Comments on Non-Agenda Items

D. Enforcement

State Enforcement Activity Report

E. Habitat

Current Habitat Issues

F. Highly Migratory Species Management

1. National Marine Fisheries Service Report

2. High Seas Limited Entry Longline Fishery

3. Yellowfin Tuna Overfishing

4. North Pacific Albacore Tuna Stock Assessment

G. Groundfish Management

1. National Marine Fisheries Service Report

2. Off-Year Science Improvements

3. Consideration of Inseason Adjustments

4. Stock Assessments for 2009-2010 Groundfish Fisheries

5. Amendment 15: Participation Limitation in the Pacific Whiting Fishery

6. Final Consideration of Inseason Adjustments (if Needed)

H. Pacific Halibut Management

1. Proposed Changes to Catch Sharing Plan and 2008 Annual Regulations

2. Pacific Halibut Bycatch Estimate for International Pacific Halibut Commission Adoption

3. Pacific Halibut Stock Assessment

I. Salmon Management

1. Salmon Methodology Review

2. Klamath River Fall Chinook Overfishing Assessment Progress Report

SCHEDULE OF ANCILLARY MEETINGS
Sunday, September 9, 2007 |
Scientific and Statistical Committee
Economic Subcommittee | 1 p.m.
Monday, September 10, 2007 |
Council Secretariat | 8 a.m.
Groundfish Advisory Subpanel | 8 a.m.
Groundfish Management Team | 8 a.m.
Scientific and Statistical Committee | 8 a.m.
Budget Committee | 8:30 a.m.
Habitat Committee | 8:30 a.m.
Legislative Committee | 10 a.m.
Enforcement Consultants | 4:30 p.m.
Groundfish Stock Assessment Question
and Answer Session | 7 p.m.
Tuesday, September 11, 2007 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Scientific and Statistical Committee | 8 a.m.
Wednesday, September 12, 2007 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Scientific and Statistical Committee | 8 a.m.
Olympic Coast National Marine Sanctuary
Marine Habitat Research Report | 7 p.m.
Thursday, September 13, 2007 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As needed.
Friday, September 14, 2007 |
Council Secretariat | 7 a.m.
California State Delegation | 7 a.m.
Oregon State Delegation | 7 a.m.
Washington State Delegation | 7 a.m.
Enforcement Consultants | As needed.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: August 17, 2007.
Tracey L. Thompson,
Acting Director, Office of Sustainable Fisheries, National Marine Fisheries Service.

[FR Doc. E7-16625 Filed 8-22-07; 8:45 am]

BILLING CODE 3510-22-S